DEPARTMENT OF ENERGY

Federal Energy Regulatory Commission

[Docket No. AD08-13-000]

Transmission Barriers to Entry; Supplemental Notice of Technical Conference

October 10, 2008.

On October 3, 2008, the Commission issued a Supplemental Notice of the technical conference in the above-captioned proceeding, with an agenda attached. The technical conference will be held on October 14, 2008, from 1 p.m. to 5 p.m. (EST), in the Commission Meeting Room at the Federal Energy Regulatory Commission, 888 First Street, NE., Washington, DC 20426. The conference will be open for the public to attend and advance registration is not required. Members of the Commission may attend the conference.

An updated agenda for this conference is attached. In addition, this conference will be transcribed as described below.

Transcripts of the conference will be available immediately for a fee from Ace Reporting Company (202-347-3700 or 1-800-336-6646). They will be available for free on the Commission's eLibrary system and on the Calendar of Events approximately one week after the conference.

A free webcast of this event is available through http://www.ferc.gov. Anyone with Internet access who desires to view this event can do so by navigating to the Calendar of Events at http://www.ferc.gov and locating this event in the Calendar. The event will contain a link to its webcast. The Capitol Connection provides technical support for the free webcasts. It also offers access to this event via television in the Washington, DC area and via phone-bridge for a fee. If you have any questions, visit http://www.CapitolConnection.org or contact Danelle Springer or David Reininger at (703) 993-3100.

All interested persons may file written comments following the technical conference on or before November 13, 2008.

Commission conferences are accessible under section 508 of the Rehabilitation Act of 1973. For accessibility accommodations, please send an e-mail to accessibility@ferc.gov or call toll free 1-866-208-3372 (voice) or 202-208-1659 (TTY), or send a FAX to 202-208-2106 with the required accommodations.

For more information about this conference, please contact: Katie Detweiler, 202-502-6424, katie.detweiler@ferc.gov or Sarah McKinley, 202-502-8368, sarah.mckinley@ferc.gov.

Kimberly D. Bose,
Secretary.

Attachment

Transmission Barriers to Entry Technical Conference; October 14, 2008

Agenda

The purpose of this conference is to hear from transmission developers, transmission owners, and others on the issues they encounter when trying to build transmission. In particular, the Commission is interested in hearing from persons involved with various forms of transmission including independent transmission, merchant transmission, joint ownership arrangements, and long-distance transmission projects crossing multiple corporate boundaries or that are regional in nature regarding the barriers to transmission entry due to the Commission's tariffs, policies, and regulations.

In response to the nation's growing transmission needs, the Commission not only supports more “traditional” forms of investment, such as that of investor-owned utilities, but also encourages the formation of “alternative” transmission models. In the June 2005 Policy Statement Regarding Evaluation of Independent Ownership and Operation of Transmission, the Commission clarified its willingness to accept proposals from independent transmission companies, including those that have market participants as passive minority equity owners, and stated its willingness to allow innovative rate treatments both to facilitate the creation of independent transmission companies and to stimulate investment in transmission infrastructure.¹ Furthermore, in recent years new entities have emerged to build transmission, such as merchant transmission companies. There is increased interest in joint (i.e., public-private) transmission development. As more states have adopted renewable portfolio standards, proposals have arisen to move remote generation long distances to load.

¹ Policy Statement Regarding Evaluation of Independent Ownership and Operation of Transmission, 111 FERC ¶ 61,473 (2005).

In Order No. 890, the Commission stated its belief that there are benefits to joint ownership of transmission facilities, particularly large backbone facilities, both in terms of increasing opportunities for investment as well as ensuring nondiscriminatory access. Order No. 890 also required all transmission providers to submit processes for regional planning. However, questions have been raised as to incumbent and new entrant rights, whether merchant transmission projects should be required to coordinate with an Order No. 890 regional planning process and coordination across boundaries.

Since 2005, the Commission has acted on a number of requests regarding affiliated or independent transmission; merchant transmission; and joint ownership. Among other things, the Commission is interested in gaining a better understanding of the rights, obligations, and challenges afforded these entities as compared to traditional transmission investment and whether there are barriers to comparable treatment of these entities in the wholesale/interstate transmission market.

Panel Discussions:

While there may be common obstacles to the building of transmission, at the same time it appears that the challenges may differ in some respects regionally. Thus, the panels of this conference will be divided geographically. While the basic topics of discussion will be the same in both panels, the individual problems and solutions identified may vary by region, e.g., Eastern and Western Interconnection.

The Commission hopes to learn from each panel of the experiences parties have faced in trying to build transmission, with particular focus on regulatory and economic issues, and discuss how they differ by transmission business model. With regard to both problems and solutions, the focus should also be on matters that are within the Commission's control or ability to affect. The discussion should focus on specific areas of the Commission's regulations and policies that may present barriers to comparable treatment. Among the issues of interest to the Commission are:

• The impact on transmission providers regarding rights of first refusal to build and own transmission;

• Whether all transmission investment (e.g., upgrades, greenfield lines) are treated comparably in the award of rights (e.g., financial or physical rights);

• Whether the Commission's policies regarding the provision of ancillary services are appropriate as applied to transmission-only entities;

• Whether there are specific processes in RTO/ISO rules and markets that present barriers to alternative transmission business models;

• Development opportunities for the different transmission business models;

• The benefits of and the peculiar challenges faced by alternative business models (e.g., merchant transmission doesn't have a rate base from which to obtain cost recovery); and

• Whether there should be different approaches to projects with differing scope, e.g., long-distance backbone projects with long lead lines vs. incremental upgrades to existing facilities.

Transmission Barriers to Entry Technical Conference; October 14, 2008

Agenda

Opening Remarks

1 p.m.-1:15 p.m.

Panel I: Western Interconnect

1:15 p.m.-3 p.m.

Richard Hayslip, Associate General Manager, SALT RIVER PROJECT, representing the LARGE PUBLIC POWER COUNCIL

Tom Wray, Project Manager, SUNZIA TRANSMISSION PROJECT

Robert van Beers, Chief Operating Officer, TONBRIDGE POWER INC., representing Montana Alberta Tie Ltd.

Paul McCoy, President, TRANS-ELECT

Marc S. Lipschultz, Member, KOHLBERG KRAVIS ROBERTS & CO.

Karl “Fritz” Schlopy, Managing Director, MERRILL LYNCH & CO. GLOBAL ENERGY & POWER, representing Real Estate Investment Trusts

Roy Jones, Vice President, Transmission Development, LS POWER DEVELOPMENT

Break

3 p.m.-3:15 p.m.

Panel II: Eastern Interconnect

3:15 p.m.-5 p.m.

Sharon M. Reishus, Chairman, MAINE PUBLIC UTILITIES COMMISSION

Roy Thilly, President & CEO, WISCONSIN PUBLIC POWER INC., representing the Transmission Access Policy Study Group

Susan Tomasky, President—AEP Transmission, AMERICAN ELECTRIC POWER

Joseph L. Welch, Chairman, President & CEO, ITC HOLDINGS

Raymond Hepper, Vice President, General Counsel & Corporate Secretary, ISO NEW ENGLAND INC.

Edward M. Stern, President & CEO, NEPTUNE REGIONAL TRANSMISSION SYSTEM & CEO, HUDSON TRANSMISSION PARTNERS

Robert J. Patrylo, CEO, STRATEGIC TRANSMISSION LLC

[FR Doc. E8-24665 Filed 10-16-08; 8:45 am]

BILLING CODE 6717-01-P